DEPARTMENT OF COMMERCE

National Oceanic and Atmospheric Administration

RIN: 0648-XH10

Caribbean Fishery Management Council (CFMC); Public Meeting

AGENCY: National Marine Fisheries Service (NMFS), National Oceanic and Atmospheric Administration (NOAA), Commerce.

ACTION: Notice of a public meeting.

SUMMARY: CFMC will host a meeting of the Council Coordination Committee (CCC), consisting of the Regional Fishery Management Council chairs, vice chairs, and executive directors on May 6-9, 2008. The intent of this meeting is to discuss issues of relevance to the Councils, including FY 2008 budget allocations, implementation of provisions from the Magnuson-Stevens Fishery Conservation and Management Reauthorization Act (MSRA), and scientific fisheries research activities, among others.

DATES: The meeting will be held on May 6, 2008 through May 9, 2008. See SUPPLEMENTARY INFORMATION for specific dates and times.

ADDRESSES: The meeting will be held at the Marriott Frenchman's Reef & Morning Star Hotel, 5 Estate Bakkeroe, St. Thomas, U.S. Virgin Islands.

FOR FURTHER INFORMATION CONTACT: Caribbean Fishery Management Council, 268 Munoz Rivera Ave., Suite 1108, San Juan, Puerto Rico: telephone (787) 766-5926, or e-mail at diana_martino_cfmc@yahoo.com, or miguel_rolon_cfmc@yahoo.com

SUPPLEMENTARY INFORMATION: The meeting will begin at 8:30 a.m. on Tuesday, May 6, 2008, recess at 5 p.m., or when business is complete; reconvene at 8:30 a.m. on Wednesday, May 7, 2008, and recess at 11:30 a.m.; reconvene at 8:30 a.m. on Thursday, May 8, 2008, and recess at 5:30 p.m.; and, if needed, will reconvene on May 9, 2008, and adjourn by noon, or when business is complete.

The Magnuson-Stevens Fishery Conservation and Management Reauthorization Act (MSRA) of 2006 established the Council Coordination Committee (CCC) by amending Section 302 (16 U.S.C. 1852) of the Magnuson-Stevens Act. The Committee consists of the chairs, vice chairs, and executive directors of each of the eight Regional Fishery Management Councils authorized by the Magnuson-Stevens Act or other Council members or staff. The CFMC will host this meeting and provide reports to the Committee for its information and discussion. The main topics of discussion will be the FY 2008 budget allocation, implementation of the provisions of the MSRA, and related guidance and technical regulatory changes, among others.

Agenda

Tuesday morning, May 6, 2008

• Opening remarks

U.S.V.I. Government Officials

CFMC

NOAA Fisheries

Separate Sessions NMFS and Councils

Tuesday afternoon, May 6, 2008

• MSRA Implementation Issues

Discuss agency progress on NS1 Guidelines concerning ACL's/AMs

Discuss agency progress on NEPA compliance procedures

Discuss agency progress on NMFS guidance regarding implementation of LAPPs

Discuss and review progress regarding incorporation of SSC into council specification setting processes, and its role as peer review body, as well as those of other advisory roles

Discuss progress on developing 5-year research programs with SSC

Discuss Councils' efforts to end overfishing and status of rebuilding stocks that are overfished (each council will address this item.)

Wednesday morning, May 7, 2008

• Other MSRA implementation/legislative issues

Progress report on MRIP

Coastal States Organization (CSO) perspective on HR 21

Receive/discuss status of: HR 4087; HR 5425; or any other bill relevant to councils or NMFS

U.S. Coast Guard report

Thursday morning, May 8, 2008

• Council administrative matters

Discuss FY09 Appropriation Bill, and how to address its impact on councils.

Discuss FY09 stipends for SSC and need for a nationally consistent payment level

Discuss FY09 stipends for Industry Advisors

Discuss FY10 budget formulation activity

Discuss status of SOPPs in terms of agency approval and need to have a national “template”

Discuss upcoming 5-year grant award process (FY2010-14) and related procedures

Thursday afternoon, May 8, 2008

• Continue Council administrative matters

• Issues joint concern/interest NOAA/NMFS

Marine Sanctuary Program

MPAs and FAC Report

Use of performance metrics for budget allocation purposes, e.g., Councils' FSSI scoring system

Discuss FY 2008 budget needs/relief for Councils

Friday morning, May 9, 2008

• Councils only session (if needed)

The order in which the agenda items are addressed may change. The CCC will meet as late as necessary to complete scheduled business.

Special Accommodations

This meeting is physically accessible to people with disabilities. Requests for sign language interpretation or other auxiliary aids should be directed to Miguel A. Rolon at (787) 766-5926 at least 5 working days prior to the meeting.

Dated: April 7, 2008.
Tracey L. Thompson,
Acting Director, Office of Sustainable Fisheries, National Marine Fisheries Service.

[FR Doc. E8-7523 Filed 4-9-08; 8:45 am]

BILLING CODE 3510-22-S